DEPARTMENT OF THE TREASURY

United States Mint

Establish Pricing for 2020 United States Mint Numismatic Product

AGENCY: United States Mint, Department of the Treasury.

ACTION: Notice.

SUMMARY: The United States Mint is announcing pricing for the new United States Mint numismatic product in accordance with the table below:

Product | 2020 retail price
Presidential $1 Coin & First Spouse Medal SetTM-George H.W. Bush and Barbara Bush | $25.00

FOR FURTHER INFORMATION CONTACT: Angela Hicks, Marketing Specialist, Sales and Marketing; United States Mint; 801 9th Street, NW; Washington, DC 20220; or call 202-354-7750.

Authority: 31 U.S.C. 5111, 5112, & 9701.

Eric Anderson,
Executive Secretary, United States Mint.

[FR Doc. 2020-28051 Filed 12-18-20; 8:45 am]

BILLING CODE 4810-37-P